ENVIRONMENTAL PROTECTION AGENCY

[FRL-7602-6]

T.H. Agriculture & Nutrition Company Superfund Site; Notice of Proposed Settlement

AGENCY: Environmental Protection Agency.

ACTION: Notice of proposed settlement.

SUMMARY: Under section 122(h)(1) of the Comprehensive Environmental Response, Compensation, and Liability Act (CERCLA), 42 U.S.C. 9622(h)(1), the United States Environmental Protection Agency (EPA) has entered into an Agreement for Recovery of Past Costs (Agreement) at the T.H. Agriculture & Nutrition Company Superfund Site (Site) located in Albany, Dougherty County, Georgia, with Schwerman Trucking Company. EPA will consider public comments on the Agreement until January 28, 2004. EPA may withdraw from or modify the Agreement should such comments disclose facts or considerations which indicate the Agreement is inappropriate, improper, or inadequate. Copies of the Agreement are available from: Ms. Paula V. Batchelor, U.S. Environmental Protection Agency, Region 4, Superfund Enforcement & Information Management Branch, Waste Management Division, 61 Forsyth Street, SW., Atlanta, Georgia 30303, (404) 562-8887.

Written comments may be submitted to Sharron T. Carter-Rogers at the above address within thirty (30) days of the date of publication.

Dated: December 15, 2003.
Rosalind H. Brown,
Chief, Superfund Enforcement Information & Management Branch, Waste Management Division.

[FR Doc. 03-31869 Filed 12-24-03; 8:45 am]

BILLING CODE 6560-50-P